FEDERAL COMMUNICATIONS COMMISSION

[OMB 3060-XXXX and 3060-XXXX]

Information Collections Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before September 30, 2016. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION:

OMB Control Number: 3060-XXXX.

Title: Inmate Calling Services Data Collection, One-Time Data Collection.

Form Number: FCC Form 2300.

Type of Review: New collection.

Respondents: Business or other for-profit.

Number of Respondents and Responses: 15 respondents; 15 responses.

Estimated Time per Response: 80 hours.

Frequency of Response: One-time reporting requirement.

Obligation to Respond: Mandatory. Statutory authority for this information collection is contained in 47 U.S.C. 1, 4(i), 4(j), 201, 276, and 303(r) of the Communications Act of 1934, as amended, 47 U.S.C. 151, 154(i)-(j), 201, 276 and 303(r).

Total Annual Burden: 1,200 hours.

Total Annual Cost: No cost.

Privacy Act Impact Assessment: No impact(s).

Nature and Extent of Confidentiality: The Commission anticipates providing confidential treatment for proprietary information submitted by inmate calling service (ICS) providers. Parties that comply with the terms of a protective order for the proceeding will have an opportunity to comment on the data.

Needs and Uses: Section 201 of the Communications Act of 1934 Act (Act), as amended, 47 U.S.C. 201, requires that ICS providers' interstate rates and practices be just and reasonable. Section 276 of the Act, 47 U.S.C. 276, requires that payphone service providers (including those, such as ICS providers, that serve correctional institutions) be fairly compensated. The Commission's Second Report and Order and Third Further Notice of Proposed Rulemaking (FNPRM) requires that all ICS providers comply with a one-time mandatory data collection. ICS providers must submit data on the costs of providing—and the demand for—interstate, international, and intrastate ICS. The data collection requires ICS providers to submit data on ICS calls, various ICS costs, company and contract information, information about facilities served, ICS revenues, ancillary fees, and mandatory taxes and fees. ICS providers are also required to apportion direct costs for each cost category and to explain how joint and common costs are apportioned among the facilities they serve and the services they provide. The data will be used to enable the Commission to assess the costs related to ICS and ensure that ICS rates and fees related to ICS rates remain just, reasonable, and fair, as required by sections 201 and 276 of the Act.

The Commission's Wireline Bureau staff will develop a standardized template for the submission of data and provide instructions to simplify compliance with and reduce the burdens of the data collection. The template will also include filing instructions and text fields for respondents to use to explain portions of their filings, as needed. See FCC Form 2300. Providers are encouraged to file their data electronically via the Commission's Electronic Comment Filing System (ECFS).

OMB Control Number: 3060-XXXX.

Title: Inmate Calling Services Data Collection; Annual Reporting, Certification, and Consumer Disclosure Requirements.

Form Number: FCC Form 2301.

Type of Review: New collection.

Respondents: Business or other for-profit.

Number of Respondents and Responses: 15 respondents; 15 responses.

Estimated Time per Response: 5 hours—105 hours.

Frequency of Response: Annual reporting and certification requirements; third party disclosure requirement.

Obligation to Respond: Mandatory. Statutory authority for this information collection is contained in 47 U.S.C. 1, 4(i), 4(j), 201, 225, 276, and 303(r) of the Communications Act of 1934, as amended, 47 U.S.C. 151, 154(i)-(j), 201, 225, 276 and 303(r).

Total Annual Burden: 750 hours.

Total Annual Cost: No cost.

Privacy Act Impact Assessment: No impact(s).

Nature and Extent of Confidentiality: The Commission anticipates providing confidential treatment for proprietary information submitted by providers of inmate calling services (ICS). Parties that comply with the terms of a protective order for the proceeding will have an opportunity to comment on the data.

Needs and Uses: Section 201 of the Communications Act of 1934 Act (Act), as amended, 47 U.S.C. 201, requires that ICS providers' rates and practices be just and reasonable. Section 276 of the Act, 47 U.S.C. 276, requires that payphone service providers (including those that serve correctional institutions such as ICS providers) be fairly compensated. The Commission's Second Report and Order and Third Further Notice of Proposed Rulemaking (Second Report and Order), WC Docket No., FCC 15-136, requires that ICS providers file annual reports with the Commission, including certifications that the reported data are complete and accurate. The annual reporting and certification rules require ICS providers to file, among other things: Data regarding their ICS rates and minutes of use by facility and size of facility; current ancillary service charge amounts and the instances of use of each; and the monthly amount of any site commission payments. The Commission also requires an officer of each ICS provider annually to certify the accuracy of the data submitted and the provider's compliance with the Second Report and Order. The consumer disclosure rule requires ICS providers to inform customers of their rates and charges. The data will assist the Commission in, among other things, ensuring compliance with the Second Report and Order and monitoring the effectiveness of the ICS reforms adopted therein. The data will be used to enable the Commission to assess the costs related to ICS and ensure that ICS rates and ancillary service charges related to ICS rates remain just, reasonable, and fair, as required by sections 201 and 276 of the Act.

The Commission's Wireline Bureau staff will develop a standardized template for the submission of data and provide instructions to simplify compliance with and reduce the burdens of the data collection. The template will also include filing instructions and text fields for respondents to use to explain portions of their filings, as needed. See FCC Form 2301. Providers are encouraged to file their data electronically via the Commission's Electronic Comment Filing System (ECFS).

Federal Communications Commission.
Marlene H. Dortch,
Secretary, Office of the Secretary.

[FR Doc. 2016-18095 Filed 7-29-16; 8:45 am]

BILLING CODE 6712-01-P